DEPARTMENT OF HEALTH AND HUMAN SERVICES

Substance Abuse and Mental Health Services Administration

Center for Substance Abuse Prevention; Notice of Meeting

Pursuant to Public Law 92-463, notice is hereby given that the Substance Abuse and Mental Health Administration (SAMHSA) Center for Substance Abuse Prevention (CSAP) National Advisory Council (NAC) will meet on August 28, 2007.

The meeting is open and will include discussion of the Center's policy issues and current administrative, legislative, and program developments.

Attendance by the public will be limited to space available. Public comments are welcome. Please communicate with the CSAP NAC Executive Secretary, Tia Haynes (see contact information below), to make arrangements to attend, to comment or to request special accommodations for persons with disabilities.

Substantive program information, a summary of the meeting and a roster of Council members may be obtained as soon as possible after the meeting, either by accessing the SAMHSA Committee Web site at www.nac.samhsa.gov/csap/csapnac.aspx, or by contacting Ms. Tia Haynes.

Committee Name: Substance Abuse and Mental Health Services Administration, Center for Substance Abuse Prevention National Advisory Council.

Date/Time: Tuesday, August 28, 2007, from 9 a.m. to 3:30 p.m.: Open.

Place: 1 Choke Cherry Road, Sugarloaf Conference Room, Rockville, Maryland 20857.

Contact: Tia Haynes, Executive Secretary, CSAP National Advisory Council, 1 Choke Cherry Road, Room 4-1066, Rockville, Maryland 20857, Telephone: (240) 276-2436; Fax: (240) 276-2430, E-mail: tia.haynes@samhsa.hhs.gov.

Dated: August 7, 2007.
Toian Vaughn,
Committee Management Officer, Substance Abuse and Mental Health Services Administration.

[FR Doc. E7-15792 Filed 8-10-07; 8:45 am]

BILLING CODE 4162-20-P